DEPARTMENT OF HEALTH AND HUMAN SERVICES

Administration on Aging

Agency Information Collection Activities; Proposed Collection; Comment Request; Senior Medicare Patrol Projects

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to Senior Medicare Patrol Projects.

DATES: Submit written or electronic comments on the collection of information by April 14, 2003.

ADDRESSES: Submit electronic comments on the collection of information to: barbara.lewis@aoa.gov. Submit written comments on the collection of information to Administration on Aging, Washington, DC 20201.

FOR FURTHER INFORMATION CONTACT: Barbara Lewis, Administration on Aging, Center for Wellness and Community-Based Services, Office of Consumer Choice and Protection, Washington, DC 20201.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

This information collection, Senior Medicare Patrol Projects, continues an existing collection, which had been administered by the Office of Inspector General (OIG) to prevent error, fraud and abuse in the Medicare Program. This is now being transferred from the OIG to the Administration on Aging, and administered under Title IV of the Older Americans Act.

Grantees are required by Congress to provide information for use in program monitoring and for GPRA purposes. This information collection reports the number of new trainers trained and other Medicare outreach activities, and the number of dollars recouped for the Medicare Trust Fund.

AoA estimates the burden of this collection of information as follows: a total of 8 hours for each of 51 grantees per year for the two semi-annual reports.

Dated: February 4, 2003.
Josefina G. Carbonell,
Assistant Secretary for Aging.

[FR Doc. 03-3326 Filed 2-10-03; 8:45 am]

BILLING CODE 4154-01-P